FEDERAL ELECTION COMMISSION

Sunshine Act; Meeting

Date and Time: Thursday, May 1, 2003, 10 a.m.

Place: 999 E Street, NW., Washington, DC (Ninth Floor).

Status: This meeting will be open to the public.

Items to be Discussed: Correction and approval of minutes.

Routine administrative matters.

Person to Contact for Information: Mr. Ron Harris, Press Officer, Telephone: (202) 694-1220.

Mary W. Dove,
Secretary of the Commission.

[FR Doc. 03-10433 Filed 4-23-03; 3:04 pm]

BILLING CODE 6715-01-M